DEPARTMENT OF THE INTERIOR

National Park Service

[NPS-WASO-NRNHL-DTS#-36587; PPWOCRADI0, PCU00RP14.R50000]

National Register of Historic Places; Notification of Pending Nominations and Related Actions

AGENCY: National Park Service, Interior.

ACTION: Notice.

SUMMARY: The National Park Service is soliciting electronic comments on the significance of properties nominated before September 8, 2023, for listing or related actions in the National Register of Historic Places.

DATES: Comments should be submitted electronically by October 5, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 26, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARKANSAS

Pope County

Reed Cemetery, West 12th St. bordered by South Muskogee and South Phoenix Aves., Russellville, SG100009433

FLORIDA

Duval County

Tolbert House, (African American Architects in Segregated Jacksonville, 1865-1965 MPS), 1665 Pearce St., Jacksonville, MP100009458

Franklin County

Downtown Carrabelle Historic District, Roughly bet. Carrabelle R., Ave. C SE, SE 3rd St., and E Meridian St., Carrabelle, SG100009459

Indian River County

Ryburn Apartments, 1190 Royal Palm Blvd., Vero Beach, SG100009460

GEORGIA

Bulloch County

Norris Hotel, 9 Hill St., Statesboro, SG100009454

IOWA

Linn County

Hickman-Nietert-Odd Fellows Building, 102-106 South Main Ave., Alburnett, SG100009434

Woodbury County

Hubbard Park, 2800 Jones St., Sioux City, SG100009432

KANSAS

Douglas County

Lone Star Lake Dam, (New Deal-Era Resources of Kansas MPS), 660 E 665 RD, Lawrence vicinity, MP100009456

Johnson County

Downtown Gardner Historic District, 102-107 South Elm St.; 130-218 Main St.; 204 East Park St., Gardner, SG100009453

MISSISSIPPI

Hinds County

Jackson Holiday Inn Southwest, 2649 US 80 West, Jackson, SG100009438

Smith Park Architectural District (Boundary Increase 4), 401 and 415 East Capitol St., Jackson, BC100009440

Monroe County

Baptist Ville Historic District, Roughly bounded by Ben Bender Rd., Short., North Columbus, and West Vine Sts., and Woodcrest Dr., Aberdeen, SG100009439

NEW HAMPSHIRE

Cheshire County

Clay Memorial Library, 38 Main St., Jaffrey, SG100009441

NEW YORK

Suffolk County

York Hall, 799 Saint Johnland Rd., Kings Park, SG100009455

NORTH DAKOTA

Grand Forks County

Baukol Historic District, Bounded by 405 Alpha Ave., 1801-1927 North 4th St., 1803-1815 North 3rd St., and 301-407 Park Ave., Grand Forks, SG100009437

Chester Fritz Auditorium, 3475 University Ave., Grand Forks, SG100009452

OHIO

Franklin County

Bellows Avenue School, 725 Bellows Ave., Columbus, SG100009450

Marion County

Caledonia Public Square and North Water Street Historic District, Roughly bounded by North Water St., railroad tracks and North Street, High Street, and Public Square, Caledonia, SG100009463

OREGON

Multnomah County

Parker, J. J. and Hazel, House, 2911 NW Raleigh Street, Portland, SG100009462

PUERTO RICO

Cidra Municipality

Teatro Iberia, 24 Jose de Diego, Cidra, SG100009465

SOUTH CAROLINA

Greenville County

Borden Ice Cream Factory, 711 West Washington St., Greenville, SG100009444

TEXAS

Aransas County

Bracht House, 902 East Cornwall St., Rockport, SG100009445

VERMONT

Lamoille County

Lake Elmore Historic District, VT12, between Westphal and Greaves Hill Rds., Elmore, SG100009447

VIRGINIA

Norfolk Independent City

De Paul Hospital Complex Historic District, 150 Kingsley Ln., Norfolk, SG100009429

Richmond Independent City

Hermitage Road Warehouse Historic District (Boundary Increase), Hermitage Rd., 1700 blk. of Rhoadmiller St., Richmond (Independent City), BC100009430

WISCONSIN

Dane County

Madison Vocational School (Boundary Decrease), 211 North Carroll St., Madison, BC100009436

A request for removal has been made for the following resource(s):

NORTH DAKOTA

Grand Forks County

Lyons Garage, (Downtown Grand Forks MRA), 214-218 N 4th St., Grand Forks, OT82001330

House at 1648 Riverside Drive, 1648 Riverside Dr., Grand Forks, OT94001074

VERMONT

Bennington County

Johnny Seesaw's Historic District, 3574 VT 11, Peru, OT08000686

Additional documentation has been received for the following resource(s):

WISCONSIN

Dane County

Madison Vocational School (Additional Documentation), 211 North Carroll St., Madison, AD100003545

Authority: Section 60.13 of 36 CFR part 60.

Sherry A. Frear,
Chief, National Register of Historic Places/National Historic Landmarks Program.

[FR Doc. 2023-20379 Filed 9-19-23; 8:45 am]

BILLING CODE 4312-52-P